DEPARTMENT OF TRANSPORTATION

Federal Aviation Administration

14 CFR Part 73

[Docket No. FAA-2004-17773; Airspace Docket No. 04-ASW-11]

RIN 2120-AA66

Proposed Modification of Restricted Areas 5103A, 5103B, and 5103C and Revocation of Restricted Area 5103D; McGregor, NM

AGENCY: Federal Aviation Administration (FAA), DOT.

ACTION: Notice of proposed rulemaking.

SUMMARY: This action proposes to revise Restricted Areas 5103A (R-5103A), 5103B (R-5103B), and 5103C (R-5103C) and revoke Restricted Area 5103D (R-5103D) at McGregor, NM. The United States Army (U.S. Army) requests that the FAA take action to modify R-5103A, R-5103B, and R-5103C by reducing the size of R-5103A; combining a portion of the area currently designated as R-5103A and a portion of the area currently designated as R-5103D and re-designating the combined area as a new R-5103B; and by combining the areas currently designated as R-5103B and R-5103C and re-designating the combined area as a new R-5103C. The new R-5103A, B, and C would essentially occupy the same overall boundaries and altitudes as the current R-5103A, B, C, and D. Except, a segment of the western boundary of R-5103C would move approximately 1 mile to the west and a portion of the area currently designated as R-5103D would be eliminated. The altitude structure of the new R-5103A would be surface to but not including FL180; R-5103B and R-5103C would be from the surface to unlimited. These modifications are proposed to allow the U.S. Army to activate the restricted areas in a manner that is more consistent with the actual utilization of the airspace.

DATES: Comments must be received on or before July 26, 2004.

ADDRESSES: Send comments on this proposal to the Docket Management System, U.S. Department of Transportation, Room Plaza 401, 400 Seventh Street, SW., Washington, DC 20590-0001. You must identify “FAA Docket No. FAA-2004-17773 and Airspace Docket No. 04-ASW-11,” at the beginning of your comments. You may also submit comments on the Internet at http://dms.dot.gov.

FOR FURTHER INFORMATION CONTACT: Steve Rohring, Airspace and Rules, Office of System Operations and Safety, ATO-R, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2004-17773 and Airspace Docket No. 04-ASW-11) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2004-17773 and Airspace Docket No. 04-ASW-11.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpo.access.gov/fr/index.html.

You may review the public docket containing the proposal, any comments received, and any final disposition in person at the Dockets Office (see ADDRESSES section for address and phone number) between 9 a.m. and 5 p.m., Monday through Friday, except Federal holidays. An informal docket may also be examined during normal business hours at the office of the Regional Air Traffic Division, Federal Aviation Administration, 2601 Meacham Blvd; Fort Worth, TX 76193-0500.

Persons interested in being placed on a mailing list for future NPRM's should call the FAA's Office of Rulemaking, (202) 267-9677, for a copy of Advisory Circular No. 11-2A, Notice of Proposed Rulemaking Distribution System, which describes the application procedure.

History

On February 25, the U.S. Army requested that the FAA take action to revise R-5103A, R-5103B, and R-5103C and to revoke R-5103D. Specifically, the requested action would reduce the size of R-5103A; combine a portion of the area currently designated as R-5103A and a portion of the area currently designated as R-5103D, re-designating the combined area as a new R-5103B; and combine the areas currently designated as R-5103B and R-5103C, re-designating the combined area as a new R-5103C. The new R-5103A, B, and C would essentially occupy the same overall boundaries and altitudes as the current R-52103A, B, C, and D; except, a segment of the western boundary of the new R-5103C would move approximately 1 mile to the west and that portion of the area currently designated as R-5103D that is not combined into the new R-5103B would be eliminated from restricted area airspace. The altitude structure would be from the surface to but not including FL180 for the new R-5103A and from the surface to unlimited for the new R-5103B and R-5103C. These modifications are proposed to allow the U.S. Army to activate the restricted areas in a manner that is more consistent with the actual utilization of the airspace.

The Proposal

At the request of the U.S. Army, the FAA is proposing an amendment to title 14 Code of Federal Regulations (14 CFR) part 73 (part 73) to revise R-5103A, R-5103B, and R-5103C and to revoke R-5103D. Specifically, R-5103A would be reduced in size, in that, a portion of the area currently designated as R-5103A and a portion of the area currently designated as R-5103D would be combined and re-designated as a new R-5103B; the areas currently designed as R-5103B and R-5103C would be combined and re-designated as a new R-5103C; and R-5103D would be revoked. The new R-5103A, B, and C would essentially occupy the same overall boundaries and altitudes as the current R-5103A, B, C, and D; except, a segment of the western boundary of R-5103C would move approximately one mile to the west and that portion of the area currently designated as R-5103D that is not combined into the new R-5103B would be eliminated from restricted area airspace. The altitude structure would be from the surface to but not including FL180 for the new R-5103A and from the surface to unlimited for the new R-5103B and R-5103C. These modifications are proposed to allow the U.S. Army to activate the restricted areas in a manner that is more consistent with the actual utilization of the airspace. The requested action would not change the times of use, using agency, or controlling agency.

Section 73.51 of part 73 was republished in FAA Order 7400.8L, Special Use Airspace, dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subjected to an environmental analysis in accordance with FAA Order 1050.1D, Procedures for Handling Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.51 [Amended]

2. § 73.51 is amended as follows:

* * * * *

R-5103A McGregor, NM [Amended]

By removing the current boundaries and designated altitudes and substituting the following:

Boundaries. Beginning at lat. 32°03′55″ N., long. 106°10′00″ W.; to lat. 32°03′30″ N., long. 103°53′50″ W.; to lat. 32°00′15″ N., long. 105°56′42″ W.; to lat. 32°00′30″ N., long. 106°10′27″ W.; to the point of beginning.

Designated altitudes. Surface to but not including FL 180.

* * * * *

R-5103B McGregor, NM [Amended]

By removing the current boundaries and designated altitudes and substituting the following:

Boundaries. Beginning at lat. 32°15′00″ N., long. 106°10′02″ W.; to lat. 32°15′00″ N., long. 105°42′02″ W.; to lat. 32°03′30″ N., long. 105°53′50″ W.; to lat. 32°03′55″ N., long. 106°10′00″ W.; to lat. 32°05′02″ N., long. 106°09′22″ W.; to lat. 32°06′00″ N., long. 106°15′32″ W.; to the point of beginning.

Designated altitudes. Surface to unlimited.

* * * * *

R-5103C McGregor, NM [Amended]

By removing the current boundaries and designated altitudes and substituting the following:

Boundaries. Beginning at lat. 32°45′00″ N., long. 105°53′02″ W.; to lat. 32°45′00″ N., long. 105°52′22″ W.; to lat. 32°33′20″ N., long. 105°30′02″ W.; to lat. 32°26′20″ N., long. 105°30′02″ W.; to lat. 32°15′00″ N., long. 105°42′02″ W.; to lat. 32°15′00″ N., long. 106°10′02″ W.; to lat. 32°28′00″ N., long. 106°02′00″ W.; to lat. 32°27′00″ N., long. 106°00′02″ W.; to lat. 32°36′00″ N., long. 106°00′00″ W.; to lat. 32°45′00″ N., long. 105°59′02″ W.; to the point of beginning, excluding that airspace within a 2 NM radius of lat. 32°39′00″ N., long. 105°41′00″ W.; from the surface to 1,500′ AGL and also excluding that airspace beginning at lat. 32°42′49″ N., long. 105°48′11″ W.; to lat. 32°41′00″ N., long. 105°50′00″ W.; to lat. 32°40′00″ N., long. 105°48′00″ W.; to lat. 32°41′48″ N., long. 105°46′00″ W.; to the point of beginning from the surface to 1,500′ above the surface.

Designated altitudes. Surface to unlimited.

* * * * *

R-5103D McGregor, NM [Revoked]

* * * * *

Issued in Washington, DC, May 28, 2004.
Paul Gallant,
Acting Manager, Airspace and Rules, ATO-R.

[FR Doc. 04-12969 Filed 6-8-04; 8:45 am]

BILLING CODE 4910-13-P